COMMISSION ON CIVIL RIGHTS

Notice of Public Meeting of the Nevada Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Nevada Advisory Committee (Committee) to the Commission will be held at 9:00 a.m. to 5:00 p.m. (Pacific Time) Thursday, August 9, 2018, the purpose of meeting is for the Committee to receive testimony on the impact of Nevada policing practices on the administration of justice as it relates to mental health, with a special emphasis on the impact on veterans and people of color.

DATES: The meeting will be held on Thursday, August 9, 2018, at 9:00 a.m. to 5:00 p.m.

ADDRESSES: Embassy Suites; 4315 Swenson Street, Las Vegas, NV 89119; Flamingo 1 Conference Room.

FOR FURTHER INFORMATION CONTACT: Ana Victoria Fortes (DFO) at afortes@usccr.gov or (213) 894-3437.

SUPPLEMENTARY INFORMATION: Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meeting at http://facadatabase.gov/committee/meetings.aspx?cid=261.

Please click on the “Meeting Details” and “Documents” links. Records generated from this meeting may also be inspected and reproduced at the Regional Programs Unit, as they become available, both before and after the meeting. Persons interested in the work of this Committee are directed to the Commission's website, http://www.usccr.gov, or may contact the Regional Programs Unit at the above email or street address.

Agenda

I. Opening Remarks and Introductions (9:00 a.m.-9:15 a.m.)

II. Panel Presentations

Community Policing & Crime Reduction (9:15 a.m.-10:30 a.m.)

Understanding Mental Illness and the Criminal Justice System (10:45 a.m.-11:45 a.m.)

Open Forum (11:45 a.m.-12:15 p.m.)

Break (12:15 a.m.-1:30 p.m.)

Potential Solutions (1:30 p.m.-2:30 p.m.)

Community Voices (2:45 p.m.-4:00 p.m.)

Open Forum (4:00 p.m.-5:00 p.m.)

III. Closing Remarks (5:00 p.m.-5:15 p.m.)

Dated: July 19, 2018.
David Mussatt,
Supervisory Chief, Regional Programs Unit.

[FR Doc. 2018-15827 Filed 7-24-18; 8:45 am]

BILLING CODE P